DEPARTMENT OF HEALTH AND HUMAN SERVICES

Centers for Disease Control and Prevention

[60 Day-16-16AWN: Docket No. CDC-2016-0080]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the National Youth Tobacco Survey (NYTS) 2017 Computer Based Pilot. The NYTS is currently administered in a paper and pencil format. The NYTS Computer Based Pilot will assess the feasibility of administering the survey in an electronic format.

DATES: Written comments must be received on or before October 11, 2016.

ADDRESSES: You may submit comments, identified by Docket No. CDC-2016-0080 by any of the following methods:

• Federal eRulemaking Portal: Regulations.gov. Follow the instructions for submitting comments.

• Mail: Jeffrey M. Zirger, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Youth Tobacco Survey (NYTS) 2017 Computer Based Pilot—New—National Center for Chronic Disease Prevention and Health Promotion (NCCDPHP), Centers for Disease Control and Prevention (CDC).

Background and Brief Description

Tobacco use is a major preventable cause of morbidity and mortality in the U.S. A limited number of health risk behaviors, including tobacco use, account for the overwhelming majority of immediate and long-term sources of morbidity and mortality. Because the majority of tobacco users begin using tobacco before the age of 18, there is a critical need for public health programs directed towards youth, and for information to support these programs.

In 1999, 2000, and 2002, the American Legacy Foundation funded surveys to assess tobacco use among adolescents. Building on these efforts, CDC conducted the National Youth Tobacco Survey (NYTS, OMB no. 0920-0621) in 2004, 2006, 2009, 2011, 2012, 2013, 2014, 2015, and 2016. At present, the NYTS is the most comprehensive source of nationally representative tobacco data among students in grades 9-12, moreover, the NYTS is the only national source of such data for students in grades 6-8. The NYTS has provided national estimates of tobacco use behaviors, information about exposure to pro- and anti-tobacco influences, information about racial and ethnic disparities in tobacco-related topics, and most recently, estimates of use of emerging products such as water pipes (hookahs) and electronic cigarettes (e-cigarettes). Information collected through the NYTS is used by CDC, the Food and Drug Administration (FDA), and public health practitioners and researchers to identify and monitor trends over time, to inform the development of tobacco cessation programs for youth, and to evaluate the effectiveness of existing interventions and programs.

The NYTS is currently conducted by a paper and pencil (PAP) method in a classroom setting, scheduled by each school. At this time, many schools have experience with electronic technologies that offer several potential advantages compared to PAP survey administration. For example, electronic information collection methods support conditional `skip logic' routing and adaptive survey design, and may improve respondent satisfaction, data reliability, and data management. As a result, CDC plans to conduct a computer based pilot of the 2017 NTYS using a hand-held tablet. The specific aims of the 2017 NYTS pilot are to (1) assess respondent burden; (2) determine the reliability and efficiencies of electronic mode data collection; (3) assess the reliability and validity of survey results obtained from electronic data; (4) assess the cost-effectiveness of electronic administration; (5) measure the length of time between data collection and dissemination of findings; and (6) assess student expectations about survey participation, given changes in classroom technology.

The computer-based pilot study is designed to complement the ongoing, paper-based NYTS. In 2017, the PAP version of the NYTS will be administered as usual according to established methods (OMB No. 0920-0621, exp. 1/31/2018). Sampling, recruitment, and survey administration for both studies will be coordinated to prevent overlap, maximize participation, and maximize the comparison of results. The sampling vendor for the traditional NYTS will oversample from the NYTS sampling frame, assigning a smaller population to participate in the pilot study. The sample for the pilot study will be approximately 75% of the size of the sample for the paper-based NYTS. The samples for each mode of the survey will be drawn at the same time to ensure that the same schools are not approached for the different versions. Additionally, the paper version of the survey will start collecting data prior to the pilot version beginning data collection to ensure schools in the same district do not face multiple collectors during the same time period.

The 2017 computer-based pilot of the NYTS will be conducted among a nation-wide sample of students attending public schools in grades 6-12. Participating students will complete the survey in person in a classroom setting using a tablet provided by CDC's information collection contractor. The tablet will be distributed at the beginning of the class session and returned at the end of the class session. This is similar to administration of the PAP NYTS, in which a paper questionnaire booklet is distributed to students at the beginning of a class session, completed, and returned at the end of the session.

The content of the 2017 pilot survey will mirror the paper-based survey. The questions, developed in cooperation with the Food and Drug Administration (FDA), examine the following topics: Use of cigarettes, smokeless tobacco, cigars, pipes, bidis, snus, hookahs, electronic vapor products, and dissolvable tobacco products; knowledge and attitudes; media and advertising; access to tobacco products; secondhand smoke exposure; and cessation. In addition, specific questions will be included in the pilot survey to better understand respondents' feelings about safety and security around utilizing a computer based survey.

Findings from the NYTS pilot will be used to assess the feasibility of conducting the computer-based NYTS compared to the paper-based survey. Results will also be used to help evaluate the impact of automated collection techniques and computer-based survey administration on response burden. After data collection, the computer-based data will be compared to the paper-based data to determine which method provides the most validity and reliability.

OMB approval will be requested for one year. There are no changes in the estimated burden per response for any type of respondent compared to the paper version. Participation is voluntary and there are no costs to respondents other than their time. The estimated annualized burden hours for this data collection are 3,689 hours.

Estimated Annualized Burden Hours
Type of respondents | Form name | Number of respondents | Number of responses per respondent | Average burden per response (in hrs.) | Total burden (in hrs.)
State Administrators | State-level Recruitment Script for the National Youth Tobacco Survey | 6 | 1 | 30/60 | 3
District Administrators | District-level Recruitment Script for the National Youth Tobacco Survey | 45 | 1 | 30/60 | 23
School Administrators | School-level Recruitment Script for the National Youth Tobacco Survey | 64 | 1 | 30/60 | 32
Teachers | Data Collection Checklist for the National Youth Tobacco Survey | 292 | 1 | 15/60 | 73
Students | National Youth Tobacco Survey | 6,100 | 1 | 35/60 | 3,558
Total |  |  |  |  | 3,689

Jeffrey M. Zirger,
Health Scientist, Acting Chief, Information Collection Review Office, Office of Scientific Integrity, Office of the Associate Director for Science, Office of the Director.

[FR Doc. 2016-18937 Filed 8-9-16; 8:45 am]

BILLING CODE 4163-18-P